FEDERAL COMMUNICATIONS COMMISSION

47 CFR Part 73

[DA 01-487, MM Docket No. 00-235, RM-9992]

Digital Television Broadcast Service; Lead, SD

AGENCY: Federal Communications Commission.

ACTION: Final rule.

SUMMARY: The Commission, at the request of Duhamel Broadcasting Enterprises, licensee of station KHSDTV, substitutes DTV 10 for DTV 30 at Lead, South Dakota. See 65 FR 71079, November 29, 2000. DTV channel 10 can be allotted to Lead in compliance with the principle community coverage requirements of section 73.625(a) at reference coordinates (44-19-36 N. and 103-50-12 W.) with a power of 34.8, HAAT of 576 meters and with a DTV service population of 146 thousand.

DATES: Effective April 12, 2001.

FOR FURTHER INFORMATION CONTACT: Pam Blumenthal, Mass Media Bureau, (202) 418-1600.

SUPPLEMENTARY INFORMATION: This is a synopsis of the Commission's Report and Order, MM Docket No. 00-235, adopted February 23, 2001, and released February 26, 2001. The full text of this Commission decision is available for inspection and copying during normal business hours in the FCC Reference Center 445 12th Street, S.W., Washington, DC. The complete text of this decision may also be purchased from the Commission's copy contractor, International Transcription Services, Inc., (202) 857-3800, 1231 20th Street, NW., Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, and 336.

73.622 [Amended]

2. Section 73.622(b), the Table of Digital Television Allotments under South Dakota, is amended by removing DTV channel 30 and adding DTV channel 10 at Lead.

Federal Communications Commission.
Barbara A. Kreisman,
Chief, Video Services Division, Mass Media Bureau.

[FR Doc. 01-4915 Filed 2-28-01; 8:45 am]

BILLING CODE 6712-01-P